FEDERAL COMMUNICATIONS COMMISSION

Sunshine Act Meeting; Deletion of Agenda Items From the September 14th Open Meeting

September 14, 2000.

The following items have been deleted from the list of agendas items scheduled for consideration at the September 14, 2000, Open Meeting and previously listed in the Commission's Notice of September 7, 2000.

Item No. | Bureau | Subject
4 | Cable Services | Title: Implementation of Section 304 of the Telecommunications Act of 1996; Commercial Availability of Navigation Devices (CS Docket No. 97-80). Summary: The Commission will consider a Further Notice of Proposed Rule Making and Declaratory Ruling regarding the navigation devices rules.
5 | Office of Plans and Policy | Title: Compatibility Between Cable Systems and Consumer Electronics Equipment (PP Docket No. 00-67). Summary: The Commission will consider a Report and Order concerning compatibility between cable systems and consumer electronics equipment.
6 | Wireless Telecommunications | Title: Promotion of Competitive Networks in Local Telecommunications Markets (WT Docket No. 99-217); Wireless Communications Association International, Inc., Petition for Rule Making to Amend Section 1.4000 of the Commission's Rules to Preempt Restrictions on Subscriber Premises Reception or Transmission Antennas Designed to Provide Fixed Wireless Services; Implementation of the Local Competition Provisions in the Telecommunications Act of 1996 (CC Docket No. 96-98); and Review of Sections 68.104, and 68.213 of the Commission's Rules Concerning Connection of Simple Inside Wiring to Telephone Network (CC Docket No. 88-57). Summary: The Commission will consider a First Report and Order and Further Notice of Proposed Rule Making in WT Docket No. 99-217, a Fourth Report and Order and Memorandum Opinion and Order in CC Docket No. 96-98, and a Memorandum Opinion and Order in CC Docket No. 88-57), regarding obstacles to consumer's choice of telecommunications providers in multiple tenant environments.

Federal Communications Commission.
William F. Caton,
Deputy Secretary.

[FR Doc. 00-24074 Filed 9-14-00; 4:11 pm]

BILLING CODE 6712-01-M